DEPARTMENT OF AGRICULTURE

Submission for OMB Review; Comment Request

July 28, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@OMB.EOP.GOV, or fax (202) 395-5806; and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Economic Research Service

Title: Evaluation of Three Models Designed to Increase Participation of Eligible Elderly in the Food Stamp Program.

OMB Control Number: 0536-NEW.

Summary of Collection: Reaching the poor elderly has been a persistent issue in the Food Stamp Program (FSP). Each month, millions of eligible, poor elderly individuals go without food stamp benefits. Fewer than one-third of eligible elderly individuals have participated in the FSP. These low participation rates are troublesome, because the elderly have unique nutritional needs. To help improve their health and nutritional status, the United States Department of Agriculture (USDA) wants to identify ways to increase participation rates among eligible elderly. In response to concerns over the low participation rates, USDA has funded the Elderly Nutrition Demonstrations. These demonstrations to increase elderly participation in the FSP are based on three models: Alternative food stamps commodity benefit, Simplified eligibility and benefit determination, and Application assistance for eligible elderly. The Economic Research Service (ERS) will collect information using surveys and focus groups.

Need and Use of the Information: ERS will collect information to reduce the barriers to FSP participation that the elderly face, by providing food stamp benefits as commodities rather than as traditional payment on an electronic benefit transfer (EBT) card, simplifying the application process, increasing eligible elderly individuals' understanding of the program, and assisting elderly individuals with the application process. ERS will also collect information to determine the appeal of commodity demonstrations to elderly individuals and the aspects of the demonstration they like or dislike. Comparisons of the characteristics of demonstration participants with those of nonparticipants will show whether the demonstration is appealing to certain types of elderly individuals.

Description of Respondents: Individuals or households.

Number of Respondents: 748.

Frequency of Responses: Reporting: On occasion.

Total Burden Hours: 352.

Farm Service Agency

Title: County Committee Election.

OMB Control Number: 0560-NEW.

Summary of Collection: The Farm Security and Rural Investment Act of 2002 requires that the Secretary prepare a report of election that includes, among other things, “the race, ethnicity and gender of each nominee, as provided through the voluntary self-identification of each nominee”. The information will be collected using form FSA-669-A, “Nomination Form for County FSA Committee Election”. Completion of the form is voluntary; however, if the form is not completed, the Farm Service Agency (FSA) will make note of the nominee's race/ethnicity and gender on the basis of visual observation or surname.

Need and Use of the Information: FSA will collect information on race, ethnicity and gender of each nominee as provided through the voluntary self-identification of each nominee agreeing to run for a position. The information will be sent to Kansas City for preparation of the upcoming election. The Secretary will review the information annually. If the information is not collected in any given year, the Secretary would not be able to prepare the report that the Department has been charged with preparing.

Description of Respondents: Individuals or households; farms.

Number of Respondents: 10,000.

Frequency of Responses: Reporting: Annually.

Total Burden Hours: 6,700.

Animal Plant and Health Inspection Service

Title: Select Agent Registration.

OMB Control Number: 0579-0213.

Summary of Collection: The Public Health Security and Bioterrorism Preparedness and Response Act of 2002 were signed into law June 12, 2002. This law is designed to prevent, prepare for and respond to bioterrorism and other public health emergencies. The law requires persons possessing agents or toxins deemed a severe threat to animal or plant health, or to animal or plant products, to be registered with the Secretary of Agriculture unless they have been specifically exempted. The registration process entail the use of a number of separate forms designed to obtain critical information concerning persons or facilities in possession of certain agents or toxins, as well as the specific characteristics of the agents or toxins-including name, strain, and genetic information.

Need and Use of the Information: The Animal and Plant Health Inspection Service will collect information to ensure that appropriate safeguard, containment, and disposal requirements commensurate with the risk of the agent or toxin are in place, thus preventing access to such agents and toxins for use in domestic or international terrorism. If the information is not collected, APHIS efforts to more aggressively prevent a bioterrorism event in the United States would be compromised.

Description of Respondents: Business or other for profit; State, local and Tribal Government; not-for-profit institutions.

Number of Respondents: 652.

Frequency of Responses: Recordkeeping; reporting: On occasion.

Total Burden Hours: 25,460.

Animal Plant and Health Inspection Service

Title: Sapote Fruit Fly.

OMB Control Number: 0579-0222.

Summary of Collection: The Sapote fruit fly is a destructive pest of fruits and vegetables, including apples, avocados, grapefruits, mangoes, peaches, pears, and tangerines. This pest can cause economic losses by lowering the yield and quality of these fruits and vegetables and, in some cases, by damaging seedlings and young plants. Under the Plant Protection Act (7 U.S.C. 7701-7772), the Secretary of Agriculture is authorized to prohibit or restrict the importation, entry, or movement of plants and plant pest to prevent the introduction of plant pest into the United States or their dissemination with the United States.

Need and Use of the Information: The Animal Plant and Health Inspection Service (APHIS) will collect information using APHIS form PPQ 519, “Compliance Agreement”, for the convenience of persons who are involved in the growing, handling, or moving of regulated articles from quarantined areas. Failure to collect this information would cripple APHIS' ability to ensure that citrus and many other types of fruit do not carry Sapote fruit flies.

Description of Respondents: Business or other for profit; State, local and Tribal government.

Number of Respondents: 700.

Frequency of Responses: Reporting: On occasion.

Total Burden Hours: 112.

Food and Nutrition Service

Title: Food Distribution Forms.

OMB Control Number: 0584-0293.

Summary of Collection: The Food distribution Programs of the Department of Agriculture assist American Farmers and needy people by purchasing commodities and delivering them to State agencies that in turn, distribute them to organizations for use in providing food assistance to those in need. The commodities help to meet the nutritional needs of: (a) Children from preschool age through high school and children in nonprofit summer camps, (b) needy person in households on Indian reservations, (c) needy household in the nuclear affected islands, (d) needy persons served by charitable institutions, (e) pregnant and breastfeeding women, infants, and children, and elderly persons, (f) low-income, unemployed or homeless people provided foods through household distributions or meals through soup kitchens, (g) pre-school, school-age children, elderly and functionally impaired adults enrolled in child and adult day care centers, and (h) victims of Presidential-declared disasters and other situation of distress. The Food and Nutrition Service (FNS) will collect information from state and local agencies using several FNS forms.

Need and Use of the Information: FNS will collect the following information from state and local agencies: (a) Number of households or meals served in the programs, (b) the kinds of commodities most acceptable to recipients, (c) the quantities of foods ordered and where the food is to be delivered, (d) verification of the receipt of a food order, and (e) the amounts of commodities in inventory.

Description of Respondents: Not-for-profit institutions; individual or households; business or other for-profit; Federal Government; State, local or tribal government.

Number of Respondents: 368,499.

Frequency of Responses: Recordkeeping; reporting: On occasion; quarterly; biennially; semi-annually; monthly; annually.

Total Burden Hours: 1,154,152.

Forest Service

Title: Forest Service Ride-Along Application.

OMB Control Number: 0596-NEW.

Summary of Collection: The Forest Service (FS) ride-along program will allow the general public or other interested person to accompany agency law enforcement personnel as they conduct their normal field duties, including access to and discussions about agency law enforcement vehicles, procedures, and facilities. The purpose is to enhance public understanding and support of the agency program and to increase agency understanding of public and community concerns. The program also aids the agency's recruitment program by allowing interested persons to observe a potential career choice or to participate in innovative intern-type programs, and by allowing the agency to showcase the quality of its program and services.

Need and Use of the Information: Information will be collected from any person who voluntarily approaches the FS and wishes to participate in the program. The FS 5300-33 program application form will be used to conduct a minimal background check and the FS 5300-34 is a liability waiver form that requires the applicant's signature and their written assurance that they have read and understood the form. The information collected from the forms will be used by FS and, in appropriate part, by any person or entity needed and authorized by the FS to provide the needed background information (primarily applicable local law enforcement agencies, state criminal justice agencies maintaining state justice records, and by the FBI). If the information is not collected, the program could not operate.

Description of Respondents: Individuals or households; Federal Government; State, local or Tribal government.

Number of Respondents: 100.

Frequency of Responses: Reporting: Other (per applicant).

Total Burden Hours: 16.

Animal Plant and Health Inspection Service

Title: Irradiation Phytosanitary Treatment of Fresh Fruits and Vegetables.

OMB Control Number: 0579-0155.

Summary of Collection: The Plant Protection Act (7 U.S.C. 7701-7772) authorizes the Secretary of Agriculture to regulate the importation of plants, plant products, and other articles into the United States to prevent the introduction of injurious plant pests and noxious weeds. Regulations in 7 CFR 305 provide for the use of irradiation as a phytosanitary treatment for certain fruits and vegetables imported in the United States. The irradiation treatment provides protection against 11 species of fruit flies and mango seed weevil.

Need and Use of the Information: The Animal and Plant Health Inspection Service (APHIS) will collect information using a compliance agreement, 24-hour notification, labeling requirements, dosimetry recordings, requests for dosimetry device approval, recordkeeping, requests for facility approval, trust fund agreement, and annual work plan. Without the collection of this information, APHIS would have no practical way of determining that any given commodity had actually been irradiated.

Description of Respondents: Business or other for profit; individuals or households; farms.

Number of Respondents: 125.

Frequency of Responses: Recordkeeping; reporting: On occasion.

Total Burden Hours: 10,305.

Ruth Brown,
Departmental Information Collection Clearance Officer.

[FR Doc. 03-19552 Filed 7-31-03; 8:45 am]

BILLING CODE 3410-01-M